DEPARTMENT OF AGRICULTURE

Forest Service

Upper Granite Mining Projects; Wallowa-Whitman National Forest, Baker County, OR

AGENCY: Forest Service, USDA

ACTION: Notice of intent to prepare an environmental impact statement.

SUMMARY: The USDA, Forest Service will prepare an environmental impact statement (EIS) on a proposed action to approve Proposed Plans of Operations on mining claims located in the Granite Creek Watershed. The project area is located on the Whitman Unit of the Wallowa-Whitman National Forest, approximately 30 miles west of Baker city, Oregon.

The proposed action is a compilation of plans submitted by claimants operating within the analysis area. These plans describe the type of mining operations proposed and how they would be conducted, the type and standard of access routes, the means of transportation to be used, the period during which the proposed mining activity will take place and measures to be taken to meet the requirements for environmental protection. Operations include the exploration and extraction of valuable minerals from placer and lode deposits. Methods range from hand panning to more complex operations utilizing mechanical equipment. The 1990 Land and Resource Management Plan final EIS for the Wallowa-Whitman National Forest, as amended, provides overall guidance for management of this area.

DATES: Written comments concerning the scope of the analysis should be received within 30 days of the scoping letter postmark.

ADDRESSES: Send written comments and suggestions to Richard Haines, Whitman Unit Ranger, 3165 10th Street, Baker City, Oregon 97814.

FOR FURTHER INFORMATION CONTACT: Sophia Millar, Interdisciplinary Team Leader, Wallowa Mountains Office, Enterprise, OR, Phone: (541) 426-5540.

SUPPLEMENTARY INFORMATION: The planning area is within the boundary of the Granite Creek Watershed. The legal description of the decision area is as follows: T8-10S, R35E, 35-½E, 36E, W.M. surveyed.

The Oregon department of Environmental Quality (DEQ) has listed Beaver Creek, Bull Run Creek, and Granite Creek as water quality impaired under section 303(d) of the Clean Water Act. The Forest Service has determined that mining operations have the potential to affect water quality. Accordingly, the effects of new, existing, or modified Plans of Operations prepared under regulations at 36 CFR 228.4 and 228.5, and 36 CFR 228 Subpart C, will be analyzed in this EIS.

Mining operations are associated with the extraction of precious metals from placer and lode deposits. A number of different practices are being proposed on the various claims within the analysis area. These may include one or more of the following practices:

Test Pits: Holes are dug either by hand or mechanical equipment to sample sub-surface deposits.

Drilling: Portable drills are used as part of the exploration process to sample sub-surface mineral deposits.

Placer Mining: This includes a wide variety of practices to extract minerals from placer deposits. The techniques include handwork with shovels and pans, small sluice boxes and more complex operations that use mechanical equipment. On the more heavily worked claims backhoes and front end loaders are used for digging, and power trommels for separation and extraction. Water, to varying degrees, is used in all these techniques. Some minor road maintenance and maintenance of existing structures is also planned.

Lode Mining: This includes tunneling or other mechanical methods used to extract lode deposits.

Activities, which would occur in association with mining operation, include mitigation practices such as construction or maintenance of settling ponds, and reclamation activities such as recontouring, seeding, and treatment of noxious weeds.

Road Construction: This includes construction of ½ mile of road to access an existing operation.

Preliminary issues include effects of proposed activities on—water quality and fish habitat.

The Forest Service will consider a full range of alternatives, including a “no action” alternative. The no-action alternative is evaluated order to establish a baseline condition of existing and future environmental conditions in the project area. Based on the issues gathered through scoping, the action alternatives may vary in the type of operations permitted, the timing of permitted operations and the types of mitigation required. Action alternatives include—the proposed mining activities and alternatives that modify the proposed plans with additional mitigation to address effects of mining on water quality and fisheries habitat.

Public participation will be especially important at several points during the analysis, beginning with the scoping process (40 CFR 1501.7). This environmental analysis and decision making process will enable additional interested and affected people to participate and contribute to the final decision. The public is encouraged to take part in the process and is encouraged to visit with Forest Service officials at any time during the analysis and prior to the decision. The Forest Service will be seeking information, comments. and assistance from Federal, State, local agencies, tribes, and other individuals or organizations that may be interested in, or affected by the proposal. This input will be used in preparation of the draft EIS. The scoping process includes: Identifying potential issues; identifying major issues to be analyzed in depth; identifying issues which have been covered by a relevant previous environmental analysis; considering additional alternatives based on themes which will be derived from issues recognized during scoping activities; and identifying potential environmental effects of this project and alternatives (i.e. direct, indirect, and cumulative effects and connected actions).

The draft EIS is expected to be filed with the Environmental Protection Agency (EPA) and to be available to the public for review by May 2005. The comment period on the draft EIS will be 45 days from the date the EPA publishes the Notice of Availability in the Federal Register. It is important that those interested in the management of the Wallowa-Whitman National Forest participate at that time.

Comments received in response to this notice, including names and addresses of those who comment, will be considered part of the public record on this proposed action and will be available for public inspection. Comments submitted anonymously will be accepted and considered; however, those who submit anonymous comments will not have standing to appeal the subsequent decision under 36 CFR Parts 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

The Forest Service believes it is important to give reviewers notice, at this early stage, of several court rulings related to public participation in the environmental review process. First, reviewers of draft EIS's must structure their participation in the environmental review of the proposal so that it is meaningful and alerts the agency to the reviewer's position and contentions. Vermont Yankee Nuclear Power Corp. v. NRDC, 435 U.S. 519, 553 (1978). Also, environmental objections that could be raised at the draft EIS stage but that are not raised until completion of the final EIS may be waived or dismissed by the courts. City of Angoon v. Hodel, 803 f. 2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider and respond to them in the final EIS.

To assist the Forest Service in identifying and considering issues and concerns on the proposed action, comments on the draft environmental impact statement should be as specific as possible. It is also helpful if comments refer to specific pages or chapters of the draft statement. Comments may also address the adequacy of the draft EIS or merits of the alternatives formulated and discussed in the statement. (Reviewers may wish to refer to the Council on Environmental Quality Regulations for implementing the procedural provisions of the National Environmental Policy Act at 40 CFR 1503.3 in addressing these points).

The final EIS is scheduled for completion July 2005. In the final EIS, the Forest Service is required to respond to comments and responses received during the comment period that pertain to the environmental consequences discussed in the draft EIS and applicable laws, regulations, and policies considered in making a decision regarding the proposal.

The Forest Service is the lead agency. The Whitman Unit Ranger is the Responsible Official. The Responsible Official will decide which, if any, of the proposed plans will be implemented. The Responsible Official will also document the decision and reasons for the decision in the Record of Decision. That decision will be subject to Forest Service Appeal Regulations (36 CFR Part 215).

Dated: December 9, 2004.
Richard Haines,
Whitman Unit Ranger.

[FR Doc. 04-27526 Filed 12-15-04; 8:45 am]

BILLING CODE 3410-11-M